DEPARTMENT OF HEALTH AND HUMAN SERVICES

National Institutes of Health

National Institute of General Medical Sciences; Cancellation of Meeting

Notice is hereby given of the cancellation of the National Institute of General Medical Sciences Special Emphasis Panel, Review of the Centers of Biomedical Research Excellence (COBRE) Phase 1, July 15, 2025, 10:00 a.m. to July 16, 2025, 6:00 p.m., National Institute of General Medical Sciences, Natcher Building, 45 Center Drive, Bethesda, Maryland 20892 which was published in the Federal Register on April 3, 2025, FR Doc. 2025-05723, 90 FR 14654.

This meeting has been transferred from National Institute of General Medical Sciences (NIGMS) to Center for Scientific Review CSR.

Dated: June 10, 2025.
Bruce A. George,
Program Analyst, Office of Federal Advisory Committee Policy.

[FR Doc. 2025-10783 Filed 6-12-25; 8:45 am]

BILLING CODE 4140-01-P